DEPARTMENT OF ENERGY

Federal Energy Regulatory Commission

[Docket Nos. AD20-24-000; ER02-2001-000]

Electric Quarterly Report Users Group Meeting; Notice of Electric Quarterly Report Users Group Meeting

On August 3, 2020,¹ the Federal Energy Regulatory Commission (Commission) issued a notice that Commission staff will hold an Electric Quarterly Report (EQR) Users Group meeting on September 23, 2020. The meeting will take place from 10:00 a.m. to 5:00 p.m. Eastern Time. All interested persons are invited to participate. Access to the meeting will be available via WebEx.

¹ 18 CFR 2.1 (2019).

Commission staff is hereby supplementing the August 3, 2020 notice with the agenda for discussion. During the meeting, Commission staff and EQR users will discuss recent developments and potential improvements to the EQR program and the EQR filing process. Questions regarding the meeting may be emailed to EQRUsersGroup@ferc.gov.

Please note that matters pending before the Commission and subject to ex-parte limitations cannot be discussed at this meeting. An agenda for the meeting follows.

Information for the EQR Users Group Meeting, including a link to the webcast, will be posted on the meeting event page on the Commission's website, https://www.ferc.gov/news-events/events/electric-quarterly-report-eqr-user-group-meeting-09232020-1 prior to the event. Due to the nature of the discussion, those wishing to participate are required to register for the meeting through the WebEx link. There is no registration fee. Questions may also be emailed prior to and during the event to EQRUsersGroup@ferc.gov.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the EQR Users Group meeting, please contact Jeff Sanders of the Commission's Office of Enforcement at (202) 502-6455, or send an email to EQRUsersGroup@ferc.gov.

Dated: September 10, 2020.
Kimberly D. Bose,
Secretary.

Agenda

EQR Users Group Meeting; September 23, 2020

10:00 a.m.-10:15a.m. Introductions and Logistics

• Agenda Review

• Meeting Format for Comments and Questions

10:15 a.m.-11:15 a.m. Updates Since Last Meeting

• New EQR Webpage

• Elimination of EQR RSS Feed

• New EQR Validations and Errors

• June 18th Order Revising and Clarifying EQR Reporting Requirements (171 FERC ¶ 61,214 (2020))

11:15 a.m.-12:00 p.m. Booked Out Power Transactions

• How do sellers define, classify, and capture data related to booked out power transactions?

• How do sellers report their Booked-Out Power transactions in the EQR?

• What can be done to provide further clarity on how booked out power transactions should be reported to the EQR?

12:00 p.m.-1:00 p.m. Break

1:00 p.m.-4:00 p.m. EQR Reassessment

• Updates since last meeting

• EQR Reassessment Going Forward

• What is XBRL?

4:00 p.m.-4:55 p.m. Open Discussion—Feedback to topics received from users

4:55 p.m.-5:00 p.m. Closing Remarks

[FR Doc. 2020-20396 Filed 9-15-20; 8:45 am]

BILLING CODE 6717-01-P